DEPARTMENT OF JUSTICE

Office of Justice Programs

Agency Information Collection Activities: Proposed Collection; Comment Request

ACTION: 60-Day Notice of Information Collection Under Review: Equal Employment Opportunity Plan Certification and Short Form.

The U.S. Department of Justice, Office of Justice Programs (OJP), Office for Civil Rights has submitted the following information collection request to the Office of Management and Budget (OMB) for review and approval in accordance with the Paperwork Reduction Act of 1995. The proposed information collection is published to obtain comments from the public and affected agencies. Comments are encouraged and will be accepted for “sixty days” until April 7, 2006. This process is conducted in accordance with 5 CFR 1320.10.

If you have comments especially on the estimated public burden or associated response time, suggestions, or need a copy of the proposed information collection instrument with instructions or additional information, please contact Daphne Felten-Green, (202) 307-0690, Office for Civil Rights, Office of Justice Programs, U.S. Department of Justice, 810 Seventh Street, NW., Washington, DC 20531.

Written comments and suggestions from the public and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology; e.g., permitting electronic submission of responses.

Overview of this information:

(1) Type of Information Collection: Extension of previously approved collection.

(2) Title of the Form/Collection: Equal Employment Opportunity Plan

Certification and Short Form.

(3) Agency form number, if any, and the applicable component of the U.S. Department of Justice sponsoring the collection: Office for Civil Rights, Office of Justice Programs, United States Department of Justice.

(4) Affected public who will be asked or required to respond, as well as a brief abstract: Primary: State, and local, government instrumentalities. Other: For-profit Institutions. 28 CFR 42.301 et seq. authorizes the Department of Justice to collect information regarding employment practices from State or Local units of government, agencies of State and Local governments, and Private entities, institutions or organizations to which OJP, Community Oriented Policing Services, and the Office for Violence Against Women extend Federal financial assistance.

(5) An estimate of the total number of respondents and the amount of time estimated for an average respondent to respond/reply: There are 6,371 respondents. It is estimated that it will take 1,290 respondents receiving a grant of $500,000 or more, one hour to complete an Equal Employment Opportunity Plan Short Form and submit it to the Office of Justice Programs. In addition, an estimated 5,081 of respondents seeking grants ranging from $25,000 up to $500,000 will be required to complete Certification stating that they are maintaining a current Equal Employment Opportunity Plan on file and submit the certification to OJP. Completion and submission of the Certification will take approximately 15 minutes.

(6) An estimate of the total public burden (in hours) associated with the collection: For the 6,371 respondents, there are an estimated 2,560 total annual burden hours associated with this collection.

If additional information is required, contact Brenda E. Dyer, Department Clearance Officer, United States Department of Justice, Justice Management Division, Policy and Planning Staff, Patrick Henry Building, Suite 1600, 601 D Street, NW., Washington, DC 20530.

Dated: January 31, 2006.
Brenda E. Dyer,
Department Clearance Officer, United States Department of Justice.

[FR Doc. E6-1543 Filed 2-3-06; 8:45 am]

BILLING CODE 4410-18-P